DEPARTMENT OF HEALTH AND HUMAN SERVICES

Health Resources and Services Administration

Advisory Council; Notice of Meeting

In accordance with section 10(a)(2) of the Federal Advisory Committee Act (Public Law 92-463), announcement is made of the following National Advisory body scheduled to meet during the month of February 2000.

The National Advisory Committee on Rural Health will convene its thirty-fourth meeting at the time and place specified below:

Name: National Advisory Committee on Rural Health.

Date and Time:

February 7, 2000; 8:30 a.m.-4:45 p.m.

February 8, 2000; 8:30 a.m.-4:00 p.m.

February 9, 2000; 8:30 a.m.-10:30 a.m.

Place: Washington Court Hotel, 525 New Jersey Avenue, N.W., Washington, D.C. 20001. Phone: (202) 628-2100.

The meeting is open to the public.

Purpose: The National Advisory Committee on Rural Health provides advice and recommendations to the Secretary with respect to the delivery, research, development, and administration of health care services in rural areas.

Agenda: Monday morning, February 7, at 8:30 a.m. the new chairperson, Senator Nancy Kassebaum Baker will open the meeting and welcome the Committee members. The first plenary session will be a presentation on the rural health issues in the Veterans Administration. At 10:00 a.m. the group will move to the National Rural Health Association's Policy Institute Congressional Forum (also convened in the same hotel). After lunch, presentations will include the Kaiser Commission on Medicaid and the uninsured; update on public health and hospital capital, and the Indian Health Service.

Tuesday morning at 8:30 a.m., there will be an update of the Office of Rural Health Policy activities, followed by presentations on Medicare payment in rural areas, rural mental issues, and an update on research and regulatory activities.

After lunch, Committee discussion will continue on issues presented by the Indian Health Service, and Veterans Administration.

The final plenary session will be convened on Wednesday, February 9 at 8:30 a.m. During this session the Committee will discuss future activities and next meeting. The meeting will be adjourned at 10:30 a.m.

Anyone requiring information regarding the subject Committee should contact Wayne W. Myers, M.D., Executive Secretary, National Advisory Committee on Rural Health, Health Resources and Services Administration, Room 9A-55, Parklawn Building, 5600 Fishers Lane, Rockville, MD 20857, telephone (301) 443-0835, Fax (301) 443-2803.

Persons interested in attending any portion of the meeting should contact Sandi Lyles or Lilly Smetana, Office of Rural Health Policy, (301) 443-0835.

Dated: January 14, 2000.
Jane M. Harrison,
Director, Division of Policy Review and Coordination.

[FR Doc. 00-1534 Filed 1-21-00; 8:45 am]

BILLING CODE 4160-15-P